Proclamation 7621 of November 1, 2002

National Hospice Month, 2002

By the President of the United States of America

A Proclamation

Hospice organizations provide people who are near the end of their lives with family-centered, quality care, that emphasizes compassion, independence, respect, and dignity. During National Hospice Month, our Nation pays tribute to hospice care and the persons and organizations involved with it, by recognizing and honoring its value and importance for people who are dying, for their families and friends, and for our communities.

Hospice has emerged as a successful model of care that helps terminally ill individuals achieve practical, physical, psychological, and spiritual goals. According to the National Hospice and Palliative Care Organization (NHPCO), in 2001, an estimated 3,200 operating hospice programs in the United States admitted about 775,000 patients. Hospice care relies upon a team of committed physicians, nurses, medical social workers, therapists, counselors, and volunteers. This team provides medical services that are designed to improve the comfort of the patient, manage symptoms, provide proper nutrition, and deal with other difficulties such as emotional distress and grief. Hospice care also provides important emotional and spiritual support to families and friends as they cope with their impending loss.

While we have made great progress in encouraging hospice care, much work remains to be done to increase awareness of hospice and its benefits. The NHPCO reports that in 2000, 2.4 million people in our Nation died. It is estimated that one in four used hospice care and services. Also, many people at the end of life are referred to hospice only a few days before death. By strengthening and expanding hospice programs and working to promote, where appropriate, their services as a positive alternative for terminally ill patients, we can make a difference in the lives of countless Americans.

As we observe National Hospice Month, we applaud hospice organizations, health professionals, and other caregivers for their dedication to ensuring respect and quality of life for all. We also reaffirm our commitment as a Nation to honoring the dignity of every person and to promoting compassion and concern for our fellow citizens.

NOW, THEREFORE, I, GEORGE W. BUSH, President of the United States of America, by virtue of the authority vested in me by the Constitution and laws of the United States, do hereby proclaim November 2002 as National Hospice Month. I encourage Americans to increase their awareness of the importance and availability of hospice service and to observe this month with appropriate activities and programs.

IN WITNESS WHEREOF, I have hereunto set my hand this first day of November, in the year of our Lord two thousand two, and of the Independence of the United States of America the two hundred and twenty-seventh.

B

[FR Doc. 02-28434

Filed 11-5-02; 8:46 am]

Billing code 3195-01-P